Proclamation 10961 of July 25, 2025

Made in America Week, 2025

By the President of the United States of America

A Proclamation

Since the earliest days of our history, our Nation's future has been forged by skilled American hands and proud American hearts. From the settlers at Jamestown to the titans of industrialization and manufacturing, America has understood that, in order to be a great Nation, we must be a Nation that builds, creates, innovates, and fights for the needs of our own workers, families, and industries first. This Made in America Week, my Administration recommits to furthering this legacy—and we pledge to embolden our workers, reenergize our industries, and bring back those beautiful words: “Made in the U.S.A.”

Though the United States has long been a hub of manufacturing and an epicenter of ingenuity, over the decades, a globalist ruling class closed our factories, shipped away our jobs, and stripped our families and our communities of their homes, fortunes, and dreams. They hollowed out America as they built up China, and American citizens suffered as a result.

Every day, my Administration is once again reclaiming American sovereignty by modernizing and improving existing trade agreements, negotiating new deals based on the principles of fairness and reciprocity, and taking strong enforcement actions against trading partners that break the rules. We are putting our Nation's interests first.

In March, I proudly signed an Executive Order to create the United States Investment Accelerator, establishing an office within the Department of Commerce tasked with facilitating investments higher than $1 billion in America. I also signed a Presidential Memorandum to bolster foreign investment while defending our national security interests. To further unleash domestic production, with the enactment of the historic One Big Beautiful Bill earlier this month, we delivered interest deduction for loans on new American-made vehicles, as well as 100 percent expensing for new factories, equipment, and machinery. These pro-worker, pro-family policies are leveling the playing field for American businesses and boosting production on American shores.

I have also directed the Federal Trade Commission to crack down on sellers who falsely claim their products are “Made in the U.S.A.” Americans want to support their fellow citizens rather than send their money overseas in exchange for poor-quality goods. The “Made in the U.S.A.” label is not just a slogan, but a sign that a product truly connects us with the ingenuity, quality craftmanship, and livelihood of our Nation.

As a result of my Administration's leadership and America First vision, companies are lining up to do business with the United States. Already, we have attracted trillions of dollars' worth of foreign and domestic investments—and our work is only just beginning. These historic investments are drastically increasing our domestic manufacturing capabilities, reinvigorating struggling industries, and unleashing a new wave of American innovation. Thanks to my Administration's commonsense policies, for 4 months in a row, job numbers have beat market expectations, with American-born workers accounting for all of the job gains since I took office.

Together, we are rebuilding our Nation with American heart, hands, and grit. We are bringing back a culture of boldness and creativity that will empower the next generation of innovators, unleash the full strength of the American spirit, and ensure our economy, our culture, and our way of life remain the envy of the world. Above all, under my leadership, we are proudly building, inventing, and creating in the United States of America once again.

NOW, THEREFORE, I, DONALD J. TRUMP, President of the United States of America, by virtue of the authority vested in me by the Constitution and the laws of the United States, do hereby proclaim this week, July 20 through July 26, 2025, as Made in America Week. I call upon all Americans to pay special tribute to the builders, the ranchers, the crafters, the entrepreneurs, and all those who work with their hands every day to make America great.

IN WITNESS WHEREOF, I have hereunto set my hand this twenty-fifth day of July, in the year of our Lord two thousand twenty-five, and of the Independence of the United States of America the two hundred and fiftieth.

[FR Doc. 2025-14692

Filed 7-31-25; 11:15 am]

Billing code 3395-F4-P